ENVIRONMENTAL PROTECTION AGENCY

[FRL-8548-7]

Notice of Approval of the Primacy Application for National Primary Drinking Water Regulations for the State of Iowa

AGENCY: Environmental Protection Agency (EPA).

ACTION: Notice of approval and solicitation of requests for a public hearing.

SUMMARY: The Environmental Protection Agency (EPA) is hereby giving notice that the State of Iowa is revising its approved Public Water Supply Supervision Program under the Iowa Department of Natural Resources. The EPA has determined that these revisions are no less stringent than the corresponding Federal regulations. Therefore, the EPA intends to approve these program revisions.

DATES: This determination to approve the Iowa program revision is made pursuant to 40 CFR 142.12(d)(3). This determination shall become final and effective on May 1, 2008, unless (1) a timely and appropriate request for a public hearing is received or (2) the Regional Administrator elects to hold a public hearing on his own motion. Any interested person, other than Federal Agencies, may request a public hearing. A request for a public hearing must be submitted to the Regional Administrator at the address shown below by May 1, 2008. If a substantial request for a public hearing is made within the requested thirty day time frame, a public hearing will be held and a notice will be given in the Federal Register and a newspaper of general circulation. Frivolous or insubstantial requests for a hearing may be denied by the Regional Administrator. All interested parties may request a public hearing on the approval to the Regional Administrator at the EPA Region 7 address shown below.

ADDRESSES: Any request for a public hearing shall include the following information: (1) Name, address and telephone number of the individual organization or other entity requesting a hearing; (2) a brief statement of the requesting person's interest in the Regional Administrator's determination and a brief statement on information that the requesting person intends to submit at such hearing; (3) the signature of the individual making the request or, if the request is made on behalf of an organization or other entity, the signature of a responsible official of the organization or other entity. Requests for Public Hearing shall be addressed to: Regional Administrator, Environmental Protection Agency—Region 7, 901 North 5th Street, Kansas City, Kansas 66101.

All documents relating to this determination are available for inspection between the hours of 9 a.m. and 4:30 p.m., Monday through Friday, at the following offices:

Iowa Department of Natural Resources, Water Quality Bureau, Public Water Supply Program, 401 SW., 7th Street, Des Moines, Iowa 50309-4611.

Environmental Protection Agency—Region 7, Water Wetlands and Pesticides Division, Drinking Water Management Branch, 901 North 5th Street, Kansas City, Kansas 66101.

FOR FURTHER INFORMATION CONTACT: Morris Holmes, Environmental Protection Agency—Region 7, Drinking Water Management Branch, (913) 551-7421, or by e-mail at holmes.morris@epa.gov.

SUPPLEMENTARY INFORMATION: Notice is hereby given that the EPA has determined to approve an application by the Iowa Department of Natural Resources to incorporate the following EPA National Primary Drinking Water Regulations: (1) Arsenic and Clarifications to Compliance and New Source Contaminants Monitoring (January 22, 2001, 66 FR 6975); (2) Filter Backwash Recycling Rule (June 8, 2001, 66 FR 31085); (3) Lead and Copper Rule Minor Revisions (January 12, 2000, 65 FR 1949); (4) Long Term 1 Enhanced Surface Water Treatment Rule (January 14, 2002, 67 FR 1811); (5) Public Notification Rule (May 4, 2000, 65 FR 25981); (6) Radionuclides Rule (December 7, 2000, 65 FR 76707). The application demonstrates that Iowa has adopted drinking water regulations which satisfy the National Primary Drinking Water Regulations. The EPA has determined that Iowa's regulations are no less stringent than the corresponding Federal regulations and that Iowa continues to meet all requirements for primary enforcement responsibility as specified in 40 CFR 142.10.

Authority: Section 1413 of the Safe Drinking Water Act, as amended, and 40 CFR 142.10, 142.12(d) and 142.13.

Dated: March 10, 2008.
John B. Askew,
Regional Administrator, Region 7.

[FR Doc. E8-6654 Filed 3-31-08; 8:45 am]

BILLING CODE 6560-50-P